DEPARTMENT OF TRANSPORTATION

Federal Aviation Administration

Public Notice for a Change in Use of Aeronautical Property at the Henry E. Rohlsen Airport in St. Croix, United States Virgin Islands

AGENCY: Federal Aviation Administration (FAA), DOT.

ACTION: Notice.

SUMMARY: The FAA is requesting public comment on the Virgin Island Port Authority's proposal to change 10 acres of airport property at the Henry E. Rohlsen Airport in St. Croix, USVI from aeronautical to non-aeronautical use. This acreage was acquired via surplus property transfer on November 22, 1948.

DATES: Comments must be received on or before August 31, 2023.

ADDRESSES: Documents are available for review by prior appointment at the following location: Atlanta Airports District Office, Attn: Joseph Robinson, Planner, 1701 Columbia Ave., Suite 220, College Park, Georgia 30337-2747, Telephone: (404) 305-6749.

Comments on this notice may be mailed or delivered in triplicate to the FAA at the following address: Atlanta Airports District Office, Attn: Joseph Robinson, Planner, 1701 Columbia Ave., Suite 220, College Park, Georgia 30337-2747.

In addition, one copy of any comments submitted to the FAA must be mailed or delivered to Catherine Hendry, VIPA General Counsel, Virgin Islands Port Authority at the following address: P.O. Box 301707, St. Thomas, VI 00803.

FOR FURTHER INFORMATION CONTACT: Joseph Robinson, Airport Planner, Atlanta Airports District Office, 1701 Columbia Ave., Suite 220, College Park, Georgia 30337-2747, (404) 305-6749. The application may be reviewed in person at this same location.

SUPPLEMENTARY INFORMATION: The Virgin Islands Port Authority (VIPA) requests parcel 2-A (as shown on the Exhibit A) totaling 10 acres, be released for construction and operation of a hotel. Parcels 2-A was acquired via surplus property transfer on November 22, 1948. The purpose of this request is to permanently change the designation of the property given there is no potential for future aviation use, as demonstrated by the Airport Layout Plan. Subsequent to the implementation of the proposed redesignation, rents received by the airport from this property must be used in accordance with FAA's Policy and Procedures Concerning the Use of Airport Revenue, published in the Federal Register on February 16, 1999.

Any person may inspect, by appointment, the request in person at the FAA office listed above under FOR FURTHER INFORMATION CONTACT.

Issued in College Park, Georgia on July 26, 2023.
Joseph Parks Preston,
Manager, Atlanta Airports District Office, Southern Region.

[FR Doc. 2023-16253 Filed 7-31-23; 8:45 am]

BILLING CODE 4910-13-P